DEPARTMENT OF COMMERCE

National Telecommunications and Information Administration

RIN: 0660-ZA01

Broadband Technology Opportunities Program

AGENCY: National Telecommunications and Information Administration, U.S. Department of Commerce.

ACTION: Notice of funds availability and solicitation of applications; publication of OMB control number for information collection.

SUMMARY: The National Telecommunications and Information Administration (NTIA) announces approval by the Office of Management and Budget (OMB) of the collection of information requirements contained a Notice of Funds Availability (NOFA) for the Broadband Technology Opportunities Program (BTOP) published on July 9, 2009.

DATES: Comments on the collection of information requirements in the BTOP NOFA are due by August 31, 2009.

ADDRESSES: Comments regarding burden hour estimates or other aspects of the collection of information associated with BTOP should be directed to Gwellnar Banks, Department of Commerce, Room 7845, 14th and Constitution Avenue, NW, Washington, DC 20230 (or via electronic mail at gbanks@doc.gov).

FOR FURTHER INFORMATION CONTACT: For information regarding the BTOP, contact Anthony Wilhelm, Deputy Associate Administrator, Office of Telecommunications and Information Applications, National Telecommunications and Information Administration, U.S. Department of Commerce, by telephone at (202) 482-2048 or via electronic mail at btop@ntia.doc.gov. You may obtain additional information regarding applications for BTOP via the Internet at http://www.ntia.doc.gov/broadbandgrants/.

SUPPLEMENTARY INFORMATION: On July 9, 2009, NTIA along with the Rural Utilities Service, U.S. Department of Agriculture, published a Notice of Funds Availability (NOFA) (74 FR 33104) announcing procedures for broadband grant and loan programs established pursuant to the American Recovery and Reinvestment Act of 2009 (ARRA), Pub. L. No. 111-5, 123 Stat. 115 (2009). NTIA established the Broadband Technology Opportunities Program (BTOP) to make available grants for deploying broadband infrastructure in unserved and underserved areas in the United States, enhancing broadband capacity at public computer centers, and promoting sustainable broadband adoption projects.

The application requirements for the BTOP contained in the NOFA are an information collection subject to the requirements of the Paperwork Reduction Act. However, when the NOFA was submitted for publication, the collection of information had not yet been approved by the Office of Management and Budget (OMB). Subsequently, NTIA received OMB approval for this collection of information. NTIA announces that the collection of information is approved under OMB Control Number 0660-0031, with an expiration date of January 31, 2010. This collection of information was approved by OMB in accordance with the emergency processing provisions under 5 CFR § 1320.13 to allow NTIA to fulfill its ARRA requirements.

In the BTOP NOFA, NTIA requested public comments on the collection of information specifically for the BTOP Infrastructure, Public Computer Center, and Sustainable Adoption programs. (See 74 FR at 33128 - 33129). The comments requested will be utilized as a part of a request by NTIA, if it decides to continue to use this collection past the approved emergency request clearance time period. At that time, NTIA would resubmit a collection of information request to OMB in accordance with the review process provided in the regulations implementing the Paperwork Reduction Act. A specific comment deadline was inadvertently not included in the BTOP NOFA and is hereby announced in this notice. Comments are due by August 31, 2009.

Dated: July 10, 2009.
Kathy D. Smith,
Chief Counsel, National Telecommunications and Information Administration.

[FR Doc. E9-16904 Filed 7-15-09; 8:45 am]

BILLING CODE 3510-60-S